LIBRARY OF CONGRESS

Copyright Royalty Board

Notice of Intent To Audit

AGENCY: Copyright Royalty Board, Library of Congress.

ACTION: Public notice.

SUMMARY: The Copyright Royalty Judges are announcing receipt of notices of intent to audit the 2007 and 2008 statements of account submitted by Sirius Satellite Radio Inc. and XM Satellite Radio, Inc.

FOR FURTHER INFORMATION CONTACT: Richard Strasser, Senior Attorney, or Gina Giuffreda, Attorney Advisor, by telephone at (202) 707-7658 or e-mail at crb@loc.gov.

SUPPLEMENTARY INFORMATION: Section 106(6) of the Copyright Act, title 17 of the United States Code, gives a copyright owner of sound recordings an exclusive right to perform the copyrighted works publicly by means of a digital audio transmission. This right is limited by section 114(d), which allows certain non-interactive digital audio services, including preexisting satellite digital audio radio services, to make digital transmissions of a sound recording under a compulsory license. Moreover, these services may make any necessary ephemeral reproductions to facilitate the digital transmission of the sound recording under a second license set forth in section 112(e) of the Copyright Act.

Licensees may operate under these licenses provided they pay the royalty fees and comply with the terms of the licenses set by the Copyright Royalty Judges (“Judges”). On January 24, 2008, the Judges issued their final determination setting rates and terms for the section 112 and 114 licenses for the period 2007-2012. 73 FR 4080. As part of the terms set for these licenses, the Judges designated SoundExchange, Inc., as the organization charged with collecting the royalty payments and statements of account and distributing the royalties to the copyright owners and performers entitled to receive such royalties under the section 112 and 114 licenses. 37 CFR 382.13(b)(1). As the designated Collective, SoundExchange may conduct a single audit of a licensee for any calendar year for the purpose of verifying their royalty payments. SoundExchange must first file with the Judges a notice of intent to audit a licensee and serve the notice on the licensee to be audited. 37 CFR 382.15(b), (c).

On February 13, 2009, pursuant to 37 CFR 382.15(c), SoundExchange filed with the Judges separate notices of intent to audit Sirius Satellite Radio Inc. and XM Satellite Radio Inc. for the years 2007 and 2008. Section 382.15(c) requires the Judges to publish a notice in the Federal Register within 30 days of receipt of the notice announcing the Collective's intent to conduct an audit.

In accordance with 37 CFR 382.15(c), the Copyright Royalty Judges are publishing today's notice to fulfill this requirement with respect to SoundExchange's separate notices of intent to audit Sirius Satellite Radio Inc. and XM Satellite Radio Inc. each filed on February 13, 2009.

Dated: February 20, 2009.
James Scott Sledge,
Chief U.S. Copyright Royalty Judge.

[FR Doc. E9-3991 Filed 2-24-09; 8:45 am]

BILLING CODE 1410-72-P